DEPARTMENT OF THE TREASURY

Office of the Comptroller of the Currency

Agency Information Collection Activities: Submission for OMB Review; Comment Request

AGENCY: Office of the Comptroller of the Currency (OCC), Treasury.

ACTION: Submission for OMB review; comment request.

SUMMARY: The OCC, as part of its continuing effort to reduce paperwork and respondent burden, invites the general public and other Federal agencies to take this opportunity to comment on a continuing information collection, as required by the Paperwork Reduction Act of 1995. The OCC may not conduct or sponsor, and a respondent is not required to respond to, an information collection that has been extended, revised, or implemented unless it displays a currently valid Office of Management and Budget (OMB) control number. Currently, the OCC is soliciting comments concerning an extension, without change, of an information collection titled Disclosure of Financial and Other Information by National Banks—12 CFR Part 18. The OCC also gives notice that it has sent the information collection to OMB for review.

DATES: You should submit your written comments to both OCC and the OMB Reviewer by January 22, 2001.

ADDRESSES: You should send your written comments to the Public Information Room, Office of the Comptroller of the Currency, 250 E Street, SW., Attention: 1557-0182, Mailstop 1-5,Washington, DC 20219. In addition, you can send comments by facsimile transmission to (202) 874-4448, or by electronic mail to regs.comments@occ.treas.gov. You can inspect and photocopy the comments at the OCC's Public Reference Room, 250 E Street SW., Washington, DC 20219 on business days. You can make an appointment to inspect the comments by calling (202)874-5043.

FOR FURTHER INFORMATION CONTACT: You may request additional information from Thomas Ramsey, (202) 874-5586, Core Policy Development Division, or a copy of the collection and supporting documentation submitted to OMB from Jessie Dunaway, Clearance Officer, or Camille Dixon, (202) 874-5090, Legislative and Regulatory Activities Division (1557-0182), Office of the Comptroller of the Currency, 250 E Street, SW., Washington, DC 20219.

SUPPLEMENTARY INFORMATION: The OCC is proposing to extend OMB approval of the following information collection:

Title: Disclosure of Financial and Other Information by National Banks—12 CFR 18.

OMB Number: 1557-0182.

Form Numbers: None.

Abstract: This submission covers an existing regulation and involves no change to the regulation or to the information collections embodied in the regulation. The OCC requests only that OMB renew its approval of the information collections in the current regulation.

This disclosure of information is needed to facilitate informed decisionmaking by existing and potential customers and investors by improving public understanding of, and confidence in, the financial condition of an individual national bank. The disclosed information is used by depositors, security holders, and the general public in evaluating the condition of, and deciding whether to do business with, a particular national bank. Disclosure and increased public knowledge complements OCC's efforts to promote the safety and soundness of national banks and the national banking system.

The information collections contained in part 18 are found in §§ 18.4(c) and 18.8. Section 18.4(c) permits a bank to prepare an optional narrative for inclusion in its annual disclosure statement. Section 18.8 requires that a national bank promptly furnish materials in response to a request.

Type of Review: Extension, without change, of a currently approved collection.

Affected Public: Businesses or other for-profit.

Estimated Number of Respondents: 2,450.

Estimated Total Annual Responses: 2,450.

Frequency of Response: Annual.

Estimated Total Annual Burden: 1,225 burden hours.

OMB Reviewer: Alexander Hunt, (202) 395-7340, Paperwork Reduction Project 1557-0182, Office of Management and Budget, Room 10226, New Executive Office Building, Washington, DC 20503.

Dated: December 15, 2000.
Mark J. Tenhundfeld,
Assistant Director, Legislative & Regulatory Activities Division.

[FR Doc. 00-32541 Filed 12-20-00; 8:45 am]

BILLING CODE 4810-33-P